DEPARTMENT OF COMMERCE

National Oceanic and Atmospheric Administration

RIN 0648-XC260

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council), its Visioning and Strategic Planning Working Group, and Spiny Dogfish Committee will hold public meetings.

DATES: The meetings will be held Monday October 15, 2012 through Thursday, October 18, 2012. See SUPPLEMENTARY INFORMATION for specific dates and times.

ADDRESSES: The meetings will be held at the Ocean Place, One Ocean Blvd., Long Branch, NJ 07740; telephone: (732) 571-4000.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255.

SUPPLEMENTARY INFORMATION:

Monday, October 15, 2012

1 p.m. until 5 p.m.—The Visioning and Strategic Planning Working Group will meet.

Tuesday, October 16, 2012

9 a.m. until 5 p.m.—The Visioning and Strategic Planning Working Group will meet.

5 p.m. until 6 p.m.—There will be a Public Listening Session.

Wednesday, October 17, 2012

9 a.m.—The Council will convene.

9 a.m. until 10 a.m.—The Council will receive a presentation regarding the Management Strategy Evaluation (MSA) Summer Flounder Study.

10 a.m. until noon—Delaware Special Management Zone (SMZ) request will be discussed.

1 p.m. until 2 p.m.—Dogfish Amendment 3 will be discussed.

2 p.m. until 3 p.m.—Spiny Dogfish Specifications will be approved as a Committee of the Whole.

3 p.m. until 4 p.m.—Framework 7 (Meeting 2) and 8 (Meeting 1) to the Mackerel, Squid, and Butterfish FMP will be discussed.

4 p.m. until 5 p.m.—The Standardized Bycatch Reporting Methodology (SBRM) Fishery Management Action Team (FMAT) Report will be given.

Thursday, October 18, 2012

9 a.m. until 10 a.m.—The Council will receive a presentation from the Science Center for Marine Fisheries (SCeMFiS).

10 a.m. until 1 p.m.—The Council will hold its regular Business Session to approve the August 2012 minutes; receive the South Atlantic Council Liaison, Organizational, Executive Director's, and Science Reports, and, conduct any continuing and/or new business.

Agenda items by day for the Council's Committees and the Council itself are:

On Monday, October 15—The Visioning and Strategic Planning Working Group will finalize the mission statement, review top themes from the Visioning Project, and discuss objectives, strategies, and tactics for three to four strategic goals.

On Tuesday, October 16—The Visioning and Strategic Planning Working Group will review the outcomes from Day 1 and discuss objectives, strategies, and tactics for three to four strategic goals (continued from Day 1). During the Public Listening Session there will be a Clean Ocean Zone presentation with a question and answer session and an interactive session with leadership.

On Wednesday, October 17—There will be a MSE Summer Flounder Study with a presentation on recreational management approaches as examined by Partnership for Mid-Atlantic Fisheries Science (PMAFS) project investigators. The Council will review and approve options for designation of Delaware artificial reefs in the EEZ and schedule public hearings for the Delaware SMZ request. The Council will approve and adopt final measures in Amendment 3 to the Spiny Dogfish FMP. The Spiny Dogfish Committee will meet as a Committee of the Whole to review the Scientific and Statistical Committee (SSC) and the Spiny Dogfish Monitoring Committee recommendations for 2013-15 and adopt recommendations for 2013-15 management measures. Framework 7 (Meeting 2) and 8 (Meeting 1) to Mackerel, Squid, and Butterfish FMP will be discussed to (1) consider changing butterfish catch cap for the longfin squid fishery to a butterfish discard cap, (2) consider adding butterfish cap closure authority in trimester 2, and (3) consider procedure for transferring quota between landings and discards in the butterfish cap near the end of the year. The Council will discuss the SBRM FMAT Report to consider approval of alternatives for analysis and possible inclusion in the new SBRM Amendment now under development.

On Thursday, October 18—The Council will receive a presentation on SCeMFiS cooperative research. The Council will hold its regular Business Session to approve the August minutes, receive the South Atlantic Liaison Report, receive Organizational Reports, the Executive Director's Report, the Science Report, and conduct any continuing and/or new business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302)-526-5251, at least 5 days prior to the meeting date.

Dated: September 24, 2012.
Tracey L. Thompson,
Acting Deputy Director, Office of Sustainable Fisheries, National Marine Fisheries Service.

[FR Doc. 2012-23850 Filed 9-27-12; 8:45 am]

BILLING CODE 3510-22-P